FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 008005-014.

Agreement Name: New York Terminal Conference.

Parties: APM Terminals Elizabeth, LC; GCT Bayonne LP; GCT New York LP; Port Newark Container Terminal LLC; and Red Hook Container Terminal LLC.

Filing Party: Christopher DeLacy; Holland & Knight.

Synopsis: The amendment appoints a new agent consistent with the terms of the Agreement.

Proposed Effective Date: 3/22/2019.

Location: https://www2.fmc.gov/FMC.Agreements.Web/Public/AgreementHistory/04242.

Agreement No.: 201292.

Agreement Name: Puerto Nuevo Terminals LLC Cooperative Working Agreement.

Parties: Luis A. Ayala Colon Sucrs., Inc. and Puerto Rico Terminals, LLC.

Filing Party: Matthew Thomas; Blank Rome LLP.

Synopsis: The Agreement would authorize Luis A. Ayala Colon (LAC) and Puerto Rico Terminals (PRT), an affiliate of Tote Maritime, to form Puerto Nuevo Terminals (PNT) to operate a marine terminal and provide container stevedoring, terminal and related services in the Port of San Juan, Puerto Rico.

Proposed Effective Date: 5/11/2019.

Location: https://www2.fmc.gov/FMC.Agreements.Web/Public/AgreementHistory/21354.

Dated: March 29, 2019.
JoAnne D. O' Bryant,
Program Analyst.

[FR Doc. 2019-06475 Filed 4-2-19; 8:45 am]

BILLING CODE 6731-AA-P